NATIONAL FOUNDATION ON THE ARTS AND THE HUMANITIES

Institute of Museum and Library Services

75th Meeting of the President's Committee on the Arts and the Humanities

AGENCY: Institute of Museum and Library Services (IMLS).

ACTION: Notice of meeting.

SUMMARY: Pursuant to the Federal Advisory Committee Act, notice is hereby given that the President's Committee on the Arts and the Humanities will meet to carry out administrative functions and to consider preliminary recommendations for agency action.

Dates and Time: The meeting will be held on February 26th, 2024, at 1:00 p.m. EST until 3:00 p.m. EST.

Place: The meeting will convene in a virtual format.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov

SUPPLEMENTARY INFORMATION: The President's Committee on the Arts and the Humanities is meeting pursuant Executive Order 14084 and the Federal Advisory Committee Act (FACA), as amended, 5 U.S.C. App. The 75th Meeting of the President's Committee on the Arts and Humanities will convene at 1:00 p.m. EST on February 26, 2023. This meeting will be an Executive Session (closed to the public and personnel).

Agenda: To carry out administrative functions and discuss proposed recommendations for agency action.

As identified above, the President's Committee on the Arts and the Humanities meeting will be closed to the public and personnel pursuant to subsection (c)(9) of section 552b of Title 5, United States Code, as amended. The closed session will consider information which if prematurely disclosed would be likely to significantly frustrate implementation of a proposed agency action.

Dated: February 9, 2024.
Brianna Ingram,
Paralegal Specialist.

[FR Doc. 2024-03118 Filed 2-22-24; 8:45 am]

BILLING CODE 7036-01-P